DEPARTMENT OF ENERGY

Federal Energy Regulatory Commission

[Docket No. EL02-60-000]

Public Utilities Commission of the State of California, Complainant, v. Sellers of Long Term Contracts to the California Department of Water Resources, Respondents; Notice of Complaint

February 25, 2002.

Take notice that on February 25, 2002, the Public Utilities Commission of the State of California (Complainant) submitted a complaint against specified sellers of long term contracts to the California Department of Water Resources (Respondents) alleging that the prices, terms, and conditions of such contracts are unjust and unreasonable and, to the extent applicable, not in the public interest. Complainant alleges that Respondents obtained the prices, terms, and conditions in the contracts through the exercise of market power, in violation of the Federal Power Act, and that Respondents' actions are causing injury to the citizens and ratepayers of California on whose behalf the CPUC is statutorily entitled to act.

Copies of this filing were served upon Respondents and other interested parties.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before March 18, 2002. Protests will be considered by the Commission in determining the appropriate action to be taken, but will not serve to make protestants parties to the proceeding. Any person wishing to become a party must file a motion to intervene. Answers to the complaint shall also be due on or before March 18, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-5053 Filed 3-1-02; 8:45 am]

BILLING CODE 6717-01-P